DEPARTMENT OF HEALTH AND HUMAN SERVICES

National Institutes of Health

National Institute of Mental Health; Amended Notice of Meeting

Notice is hereby given of a change in the meeting of the Board of Scientific Counselors, National Institute of Mental Health, October 20, 2020, 9:00 a.m. to October 22, 2020, 5:00 p.m., PORTER NEUROSCIENCE RESEARCH CENTER, Building 35A, 35 Convent Drive, Bethesda, MD 20892 which was published in the Federal Register on January 6, 2020, 85 FR 516.

This notice is being amended to change the meeting format from an in-person to a virtual meeting. The dates and times remain the same. The meeting is closed to the public.

Dated: August 31, 2020.
Melanie J. Pantoja,
Program Analyst, Office of Federal Advisory Committee Policy.

[FR Doc. 2020-19627 Filed 9-3-20; 8:45 am]

BILLING CODE 4140-01-P